DEPARTMENT OF TRANSPORTATION

Office of the Secretary

Notice of Intent To Use the Central Contractor Registration System

AGENCY: Office of the Secretary, DOT.

ACTION: Notice.

SUMMARY: The U.S. Department of Transportation (DOT) has partnered with the Joint Electronic Commerce Program Office (JECPO) of the U.S. Department of Defense (DOD) to use the Central Contractor Registration (CCR) system to obtain financial electronic funds transfer (EFT) information. EFT information is inputted and maintained by contractors using DOD's web-based CCR program (www.ccr2000.com), which currently has information on over 160,000 contractors.

DATES: Effective January 1, 2001.

FOR FURTHER INFORMATION CONTACT: Direct questions on DOT's use of CCR to Susan Abrams at (202) 366-9650 or Lesley Field at (202) 366-4960. Submit questions on the CCR system via e-mail to the JECPO office at contact.ccr@us.pwcglobal.com.

SUPPLEMENTARY INFORMATION: All DOT contracts will contain (FAR) 48 CFR 52.232-33, Payment by Electronic Funds Transfer—Central Contractor Registration in lieu of (FAR) 48 CFR 52.232-34, Payment by Electronic Funds Transfer—Other than Central Contractor Registration and 52.232-35, Designation of Office for Government Receipt of Electronic Funds Transfer Information. This means contractors receiving payments under DOT contracts, purchase orders, delivery orders, or other contractual vehicles must be registered in the CCR. The EFT information in the CCR must be accurate in order for contractors' invoices or contract financing requests to be considered proper invoices for the purpose of prompt payment under DOT contracts. Current and prospective contractors are encouraged to register in the CCR without delay. By registering, the paperwork burden imposed by (FAR) 48 CFR 52.232-34 and (FAR) 48 CFR 52.232-35 will no longer exist. In lieu thereof, contractors will update their EFT information electronically through the CCR.

David J. Litman,
Senior Procurement Executive.

[FR Doc. 00-18241 Filed 7-18-00; 8:45 am]

BILLING CODE 4910-62-P